FARM CREDIT ADMINISTRATION

Sunshine Act Meeting

AGENCY: Farm Credit Administration.

SUMMARY: Pursuant to the Government in the Sunshine Act (5 U.S.C. 552b(e)(3)), the Farm Credit Administration gave notice on May 24, 2010 (75 FR 28806) of the regular meeting of the Farm Credit Administration Board (Board) scheduled for June 10, 2010. This notice is to amend the agenda by adding an item to the open session of that meeting.

FOR FURTHER INFORMATION CONTACT: Roland E. Smith, Secretary to the Farm Credit Administration Board, (703) 883-4025, TTY (703) 883-4056.

ADDRESSES: Farm Credit Administration, 1501 Farm Credit Drive, McLean, Virginia 22102-5090.

SUPPLEMENTARY INFORMATION: Parts of this meeting of the Board will be open to the public (limited space available), and parts of this meeting will be closed to the public. The agenda for June 10, 2010, is amended by adding an item to the open session to read as follows:

Open Session

C. Reports

• Young, Beginning, and Small Farmer Mission Performance—2009 Results.

Dated: May 26, 2010.
Roland E. Smith,
Secretary, Farm Credit Administration Board.

[FR Doc. 2010-13102 Filed 5-26-10; 4:15 pm]

BILLING CODE 6705-01-P